CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed renewal of its Financial Management Survey. The Financial Management Survey collects information from new grantees about their financial management systems so the Corporation can determine if appropriate systems are in place to manage federal grant funds or, if not, to identify training and technical assistance a new grantee may need to implement appropriate financial systems. The Corporation requires new grantees who have not received Corporation funds before to complete the form.

Copies of the information collection request can be obtained by contacting the office listed in the addresses section of this Notice.

DATES: Written comments must be submitted to the individual and office listed in the ADDRESSES section by March 14, 2011.

ADDRESSES: You may submit comments, identified by the title of the information collection activity, by any of the following methods:

(1) By mail sent to: Corporation for National and Community Service, Office of Grants Management, Attention: Margaret Rosenberry, Director of Grants Management, Room 8207; 1201 New York Avenue, NW., Washington, DC 20525.

(2) By hand delivery or by courier to the Corporation's mailroom at Room 8100 at the mail address given in paragraph (1) above, between 9 a.m. and 4 p.m. Eastern Time, Monday through Friday, except Federal holidays.

(3) By fax to: (202-606-3485) Attention: Margaret Rosenberry, Director of Grants Management

(4) Electronically through http://www.regulations.gov. Individuals who use a telecommunications device for the deaf (TTY-TDD) may call (202) 606-3472 between 8:30 a.m. and 5 p.m. Eastern Time, Monday through Friday.

FOR FURTHER INFORMATION CONTACT: Margaret Rosenberry, (202-606-6974) or by e-mail at prosenbe@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background: Organizations that are receiving Corporation funds for the first time complete the form. It can be completed and submitted via e-mail. The survey requests some existing organizational documents, such as an IRS Form 990 and audited financial statements. Organizations can provide those documents electronically or submit them on paper.

Current Action: The Corporation seeks to renew its current Financial Management Survey with slight revisions. The renewal form requests additional information from the grantee about organizational size and Board of Directors structure and operations. It also requires submission of an organizational chart and Articles of Incorporation.

The information collection will otherwise be used in the same manner as the existing survey form. The Corporation also seeks to continue using the current application until the revised application is approved by OMB. The current application is due to expire on March 31, 2011.

Type of Review: Renewal.

Agency: Corporation for National and Community Service.

Title: Financial Management Survey.

OMB Number: 3045-0102.

Agency Number: None.

Affected Public: Organizations that are new grantees to the Corporation.

Total Respondents: 20.

Frequency: Once.

Average Time per Response: Averages 45 minutes (.75 hours) to complete the form and one hour to gather and submit the requested documents.

Estimated Total Burden Hours: 35 hours.

Total Burden Cost (capital/startup): None.

Total Burden Cost (operating/maintenance): None.

Comments submitted in response to this notice will be summarized and/or included in the request for Office of Management and Budget approval of the information collection request; they will also become a matter of public record.

Dated: January 5, 2011.
Margaret Rosenberry,
Office of Grants Management.

[FR Doc. 2011-465 Filed 1-11-11; 8:45 am]

BILLING CODE 6050-$$-P